DEPARTMENT OF THE INTERIOR

Bureau of Land Management

[CO-220-1020XQ]

Call for Nominations for Northwest and Front Range Resource Advisory Councils (Colorado)

AGENCY: Bureau of Land Management, Interior.

ACTION: Call for nominations.

SUMMARY: The purpose of this notice is to solicit nominations from the public to fill positions which have recently been vacated on two Colorado, Bureau of Land Management (BLM), Resource Advisory Councils.

These councils provide advice and recommendations to BLM on management of the public lands. The Federal Land Policy and Management Act (FLPMA) directs the Secretary of the Interior to involve the public in planning and issues related to management of lands administered by BLM. Under Section 309 of FLPMA the Secretary has selected 15 member citizen-based advisory councils that are established and authorized consistent with the requirements of the Federal Advisory Committee Act (FACA). As required by the FACA, Resource Advisory Council members appointed to the council will reflect a balanced membership representative of the various interests concerned with the management of public lands and users of the public lands.

The position to be filled on the Northwest Resource Advisory Council is Public-at-Large in Group 3.

The position on the Front Range Resource Advisory Council which is being filled is also Public-at-Large in Group 3. Nominees must be residents of Colorado. All nominations must be accompanied by letters of reference from represented interests or organizations, a completed Nomination/Background Information Form, as well as any other information that speaks to the nominee's qualifications.

DATES: Completed Nomination/Background Information Forms and any other necessary information should be received in the appropriate office on or before March 23, 2000.

ADDRESSES: For more information and a Nomination/Background Information Form, contact the appropriate BLM office:

Northwest Resource Advisory Council—Bureau of Land Management, Northwest Center, Attn: RAC Nomination, 2815 H Road, Grand Junction, Colorado 81506.

Front Range Resource Advisory Council—Bureau of Land Management, Front Range Center, Attn: RAC Nomination, 3170 East Main Street, Canon City, Colorado 81212.

Completed Nomination/Background Forms should be returned to the appropriate address listed above.

FOR FURTHER INFORMATION CONTACT: Ken Smith (719) 269-8553; for information about the Front Range Resource Advisory Council or Lynn Barclay (970) 826-5096 for information about the Northwest Resource Advisory Council.

SUPPLEMENTARY INFORMATION: Individuals may nominate themselves or others. Nominees will be evaluated based on their education, training, and experience of the issues and knowledge of the geographical area of the Council. Nominees should have demonstrated a commitment to collaborative resource decision making.

Dated: January 29, 2000.
John Carochi,
Acting Front Range Center Manager.

[FR Doc. 00-2701 Filed 2-4-00; 8:45 am]

BILLING CODE 4310-JB-P